COMMODITY FUTURES TRADING COMMISSION

Sunshine Act Meeting—Change of Time

The following notice of a time change for scheduled meetings is published pursuant to the provisions of the Government in the Sunshine Act, Public Law 94-409, 5 U.S.C. 552b.

AGENCY HOLDING THE MEETING: Commodity Futures Trading Commission.

TIME AND DATE: The Commission has changed the start time of previously scheduled meetings on the following dates:

May 20, 2011; May 27, 2011.¹

¹ These meetings were announced previously at 76 FR 24463.

June 3, 2011; June 10, 2011; June 17, 2011; June 24, 2011.²

² These meetings were announced previously at 76 FR 28425.

From: 11 a.m.

To: 10 a.m. (one hour earlier).

PLACE: Three Lafayette Center, 1155 21st St., NW., Washington, DC, 9th Floor Commission Conference Room.

STATUS: Closed.

MATTERS TO BE CONSIDERED: Surveillance and Enforcement Matters. In the event that the times or dates of these or any future meetings change, an announcement of the change, along with the new time and place of the meeting will be posted on the Commission's Web site at http://www.cftc.gov.

CONTACT PERSON FOR MORE INFORMATION: Sauntia S. Warfield, Assistant Secretary of the Commission, 202-418-5084.

Sauntia S. Warfield,
Assistant Secretary of the Commission.

[FR Doc. 2011-12761 Filed 5-19-11; 4:15 pm]

BILLING CODE 6351-01-P